DEPARTMENT OF ENERGY

Federal Energy Regulatory Commission

[ Docket No. RM10-6-000]

Mandatory Reliability Standards for the Bulk-Power System; Notice of Staff Meeting

Take notice that the Federal Energy Regulatory Commission staff will conduct a Technical Discussion on the reliability issues relating to “Single Point of Failure on Protection Systems,” on Monday, October 24, from 1 p.m. to approximately 5 p.m. and on Tuesday, October 25, from 8 a.m. to approximately noon. This staff meeting will be held in Hearing Room #3 at the Federal Energy Regulatory Commission, 888 First Street NE., Washington, DC 20426. Members of the Commission may attend the conference.

The purpose of the meeting is to discuss the reliability implications to the interconnected transmission system associated with a single point of failure on protection systems. In Order No. 754, the Commission approved NERC's interpretation of Requirement R1.3.10 of Commission-approved transmission planning Reliability Standard TPL-002-0 (System Performance Following Loss of a Single Bulk Electric System Element).¹ In addition, the Commission stated that it believes there is an issue concerning the study of a single point of failure on protection systems.² The Commission directed Commission staff to meet with NERC and appropriate subject matter experts to explore this reliability concern, including how it can best be addressed, and identify any additional actions necessary to address the matter.³

¹ Mandatory Reliability Standards for the Bulk-Power System, Order No. 693, FERC Stats. & Regs. ¶ 31,242, order on reh'g, Order No. 693-A, 120 FERC ¶ 61,053 (2007).

² Interpretation of Transmission Planning Reliability Standard, Order No. 754, 76 FR 58716 (September 22, 2011), 136 FERC ¶ 61,186, at P 19 (2011).

³ Id. at P 20. The Commission also directed NERC to make an informational filing within six months of the date of the issuance of the Final Rule.

Commission conferences are accessible under section 508 of the Rehabilitation Act of 1973. For accessibility accommodations, please send an email to accessibility@ferc.gov or call toll free 1-866-208-3372 (voice) or 202-208-1659 (TTY), or send a fax to 202-208-2106 with the required accommodations.

For more information about this meeting, please contact: Sarah McKinley, Office of External Affairs, Federal Energy Regulatory Commission, 888 First Street NE., Washington, DC 20426, (202) 502-8368, sarah.mckinley@ferc.gov.

Dated: October 7, 2011.
Nathaniel J. Davis, Sr.,
Deputy Secretary.

[FR Doc. 2011-26695 Filed 10-14-11; 8:45 am]

BILLING CODE 6717-01-P